DEPARTMENT OF HOMELAND SECURITY

Federal Emergency Management Agency

[Docket ID FEMA-2023-0002; Internal Agency Docket No. FEMA-B-2304]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Colorado:
Adams | City of Northglenn, (22-08-0178P) | The Honorable Meredith Leighty, Mayor, City of Northglenn, 11701 Community Center Drive, Northglenn, CO 80233 | City Hall, 11701 Community Center Drive, Northglenn, CO 80233 | https://msc.fema.gov/portal/advanceSearch | Mar. 31, 2023 | 080257
Adams | City of Thornton (22-08-0178P) | The Honorable Jan Kulmann, Mayor, City of Thornton, 9500 Civic Center Drive, Thornton, CO 80229 | City Hall, 9500 Civic Center Drive, Thornton, CO 80229 | https://msc.fema.gov/portal/advanceSearch | Mar. 31, 2023 | 080007
Adams | Unincorporated areas of Adams County (22-08-0178P) | The Honorable Lynn Baca, Chair, Adams County, Board of Commissioners, 4430 South Adams County Parkway, 5th Floor, Suite C5000A, Brighton, CO 80601 | Adams County Community and Economic Development Department, 4430 South Adams County Parkway, 1st Floor, Suite W2000, Brighton, CO 80601 | https://msc.fema.gov/portal/advanceSearch | Mar. 31, 2023 | 080001
Connecticut: New Haven | Town of Branford (22-01-0692P) | The Honorable James B. Cosgrove, First Selectman, Town of Branford Board of Selectmen, 1019 Main Street, Branford, CT 06405 | Engineering Department, 1019 Main Street, Branford, CT 06405 | https://msc.fema.gov/portal/advanceSearch | Mar. 14, 2023 | 090073
Florida:
Bay | Unincorporated areas of Bay County (21-04-2548P) | The Honorable Robert Carroll, Chair, Bay County Board of Commissioners, 840 West 11th Street, Panama City, FL 32401 | Bay County Planning and Zoning Division, 840 West 11th Street, Panama City, FL 32401 | https://msc.fema.gov/portal/advanceSearch | Feb. 24, 2023 | 120004
Broward | City of Hallandale Beach (22-04-2352P) | The Honorable Joy Cooper, Mayor, City of Hallandale Beach, 400 South Federal Highway, Hallandale Beach, FL 33009 | Public Works Department, 630 Northwest 2nd Street, Hallandale Beach, FL 33009 | https://msc.fema.gov/portal/advanceSearch | Mar. 30, 2023 | 125110
Manatee | Unincorporated areas of Manatee County (22-04-4852P) | Scott Hopes, Manatee County Administrator, 1112 Manatee Avenue, West Bradenton, FL 34205 | Manatee County Building and Development Services Department, 1112 Manatee Avenue, West Bradenton, FL 34205 | https://msc.fema.gov/portal/advanceSearch | Apr. 28, 2023 | 120153
Manatee | Unincorporated areas of Manatee County (22-04-5644P) | Scott Hopes, Manatee County Administrator, 1112 Manatee Avenue, West Bradenton, FL 34205 | Manatee County Building and Development Services Department, 1112 Manatee Avenue, West Bradenton, FL 34205 | https://msc.fema.gov/portal/advanceSearch | Apr. 21, 2023 | 120153
Miami-Dade | City of Miami (22-04-3431P) | The Honorable Francis Suarez, Mayor, City of Miami, 444 Southwest 2nd Avenue, Miami, FL 33130 | Building Department 444 Southwest 2nd Street, 4th Floor Miami, FL 33130 | https://msc.fema.gov/portal/advanceSearch | Mar. 6, 2023 | 120650
Monroe | City of Marathon (22-04-5165P) | The Honorable John Bartus, Mayor, City of Marathon, 9805 Overseas Highway, Marathon, FL 33050 | Planning Department, 9805 Overseas Highway, Marathon, FL 33050 | https://msc.fema.gov/portal/advanceSearch | Mar. 20, 2023 | 120681
Orange | City of Orlando (22-04-4870P) | The Honorable Buddy Dyer, Mayor, City of Orlando, 400 South Orange Avenue, Orlando, FL 32801 | Public Works Department Engineering Division, 400 South Orange Avenue, Orlando, FL 32801 | https://msc.fema.gov/portal/advanceSearch | Apr. 7, 2023 | 120186
Sarasota | City of Sarasota (22-04-5287P) | The Honorable Erik Arroyo, Mayor, City of Sarasota, 1565 1st Street, Room 101, Sarasota, FL 34236 | Development Services Department, 1565 1st Street, Room 101, Sarasota, FL 34236 | https://msc.fema.gov/portal/advanceSearch | Mar. 29, 2023 | 125150
Maryland:
Anne Arundel | Unincorporated areas of Anne Arundel County (22-03-0389P) | Steuart Pittman, Anne Arundel County Executive, 44 Calvert Street, Annapolis, MD 21401 | Anne Arundel County Department of Inspections and Permits, 2664 Riva Road, Annapolis, MD 21401 | https://msc.fema.gov/portal/advanceSearch | Mar. 20, 2023 | 240008
Frederick | City of Frederick (22-03-0336P) | The Honorable Michael O'Connor, Mayor, City of Frederick, 101 North Court Street, Frederick, MD 21701 | City Hall, 101 North Court Street, Frederick, MD 21701 | https://msc.fema.gov/portal/advanceSearch | Apr. 26, 2023 | 240030
Frederick | Unincorporated areas of Frederick County (22-03-0336P) | The Honorable Jessica Fitzwater, Frederick County Executive, 12 East Church Street, Frederick, MD 21701 | Frederick County Division of Planning and Permitting, 30 North Market Street, Frederick, MD 21701 | https://msc.fema.gov/portal/advanceSearch | Apr. 26, 2023 | 240027
Massachusetts: Essex | City of Gloucester (22-01-0631P) | The Honorable Greg Verga, Mayor, City of Gloucester, 9 Dale Avenue, Gloucester, MA 01930 | City Hall, 3 Pond Road, Gloucester, MA 01930 | https://msc.fema.gov/portal/advanceSearch | Mar. 23, 2023 | 250082
Rhode Island: Washington | Town of Narragansett (22-01-0734P) | James R. Tierney, Manager, Town of Narragansett, 25 5th Avenue, Narragansett, RI 02882 | Narragansett Planning Board, 25 5th Avenue, Narragansett, RI 02882 | https://msc.fema.gov/portal/advanceSearch | Mar. 16, 2023 | 445402
South Dakota: Lawrence | City of Spearfish (22-08-0442P) | The Honorable John Senden, Mayor, City of Spearfish, 625 North 5th Street, Spearfish, SD 57783 | Building and Development Department, 625 North 5th Street, Spearfish, SD 57783 | https://msc.fema.gov/portal/advanceSearch | Mar. 22, 2023 | 460046
Texas:
Collin and Denton | Town of Prosper (22-06-0470P) | The Honorable David Bristol, Mayor, Town of Prosper, 250 West 1st Street, Prosper, TX 75078 | Town Hall, 250 West 1st Street, Prosper, TX 75078 | https://msc.fema.gov/portal/advanceSearch | Apr. 27, 2023 | 480141
Denton | Unincorporated areas of Denton County (22-06-1798P) | The Honorable Andy Eads, Denton County Judge, 1 Courthouse Drive, Suite 3100, Denton, TX 76208 | Denton County Development Services Department, 3900 Morse Street, Denton, TX 76208 | https://msc.fema.gov/portal/advanceSearch | Apr. 24, 2023 | 480774
Ellis | City of Venus (22-06-0620P) | The Honorable James L. Burgess, Mayor, City of Venus 700 West U.S. Highway 67, Venus, TX 76084 | Public Works and Water/Sewer Department, 700 West U.S. Highway 67, Venus, TX 76084 | https://msc.fema.gov/portal/advanceSearch | Mar. 6, 2023 | 480883
Ellis | City of Waxahachie (22-06-0378P) | The Honorable David Hill, Mayor, City of Waxahachie, P.O. Box 757, Waxahachie, TX 75168 | Public Works and Engineering Department, 401 South Roger Street, Waxahachie, TX 75165 | https://msc.fema.gov/portal/advanceSearch | Mar. 13, 2023 | 480211
Ellis | City of Waxahachie (22-06-1739P) | The Honorable David Hill, Mayor, City of Waxahachie, P.O. Box 757, Waxahachie, TX 75168 | Public Works and Engineering Department, 401 South Roger Street, Waxahachie, TX 75165 | https://msc.fema.gov/portal/advanceSearch | Mar. 23, 2023 | 480211
Ellis | Unincorporated areas of Ellis County (22-06-0378P) | The Honorable Todd Little, Ellis County Judge, 101 West Main Street, Waxahachie, TX 75165 | Ellis County Engineering Department, 109 South Jackson Street, Waxahachie, TX 75165 | https://msc.fema.gov/portal/advanceSearch | Mar. 13, 2023 | 480798
Ellis | Unincorporated areas of Ellis County (22-06-0620P) | The Honorable Todd Little, Ellis County Judge, 101 West Main Street, Waxahachie, TX 75165 | Ellis County Engineering Department, 109 South Jackson Street, Waxahachie, TX 75165 | https://msc.fema.gov/portal/advanceSearch | Mar. 6, 2023 | 480798
Midland | Unincorporated areas of Midland County (22-06-1520P) | The Honorable Terry Johnson, Midland County Judge, 500 North Loraine Street, Suite 1100, Midland, TX 79701 | Midland County Courthouse, 500 North Loraine Street, Midland, TX 79701 | https://msc.fema.gov/portal/advanceSearch | Mar. 20, 2023 | 481239
Tarrant | City of Fort Worth (22-06-0836P) | The Honorable Mattie Parker, Mayor, City of Fort Worth, 200 Texas Street, Fort Worth, TX 76102 | Transportation and Public Works Department, Engineering Vault, 200 Texas Street, Fort Worth, TX 76102 | https://msc.fema.gov/portal/advanceSearch | Mar. 20, 2023 | 480596
Tarrant | Unincorporated areas of Tarrant County (22-06-0836P) | The Honorable B. Glen Whitley, Tarrant County Judge, 100 East Weatherford Street, Suite 501, Fort Worth, TX 76196 | Tarrant County Administration Building, 100 East Weatherford Street, Suite 401, Fort Worth, TX 76196 | https://msc.fema.gov/portal/advanceSearch | Mar. 20, 2023 | 480582
Travis | City of Austin (22-06-1763P) | Spencer Cronk, Manager, City of Austin, P.O. Box 1088, Austin, TX 78767 | Watershed Engineering Division, 505 Barton Springs Road, 12th Floor, Austin, TX 78704 | https://msc.fema.gov/portal/advanceSearch | Mar. 6, 2023 | 480624
Virginia: Loudoun | Unincorporated areas of Loudoun County (22-03-0603P) | Tim Hemstreet, Loudoun County Administrator, 1 Harrison Street, Southeast, 5th Floor, Leesburg, VA 20175 | Loudoun County Government Center, 1 Harrison Street, Southeast, 3rd Floor, MSC #60, Leesburg, VA 20175 | https://msc.fema.gov/portal/advanceSearch | Apr. 3, 2023 | 510090

[FR Doc. 2023-01422 Filed 1-24-23; 8:45 am]

BILLING CODE 9110-12-P